DEPARTMENT OF HEALTH AND HUMAN SERVICES

Administration for Community Living

Agency Information Collection Activities; Submission for OMB Review; Public Comment Request; Older Americans Act, Application for Title VI Parts A/B and C Grants OMB Control Number 0985-0064

AGENCY: Administration for Community Living, Department of Health and Human Services.

ACTION: Notice.

SUMMARY: The Administration for Community Living is announcing that the proposed collection of information listed above has been submitted to the Office of Management and Budget (OMB) for review and clearance as required under the Paperwork Reduction Act of 1995. This 30-day notice collects comments on the information collection requirements related to the information collection requirements for the Older Americans Act, Title VI Parts A/B and C Grants PPR OMB Control Number 0985-0064.

DATES: Submit written comments on the collection of information by October 31, 2022.

ADDRESSES: Submit written comments and recommendations for the proposed information collection within 30 days of publication of this notice to www.reginfo.gov/public/do/PRAMain. Find the information collection by selecting “Currently under 30-day Review—Open for Public Comments” or by using the search function. By mail to the Office of Information and Regulatory Affairs, OMB, New Executive Office Bldg., 725 17th St. NW, Rm. 10235, Washington, DC 20503, Attn: OMB Desk Officer for ACL.

FOR FURTHER INFORMATION CONTACT: Jasmine Aplin, Administration for Community Living, Jasmine.Aplin@acl.hhs.gov (202) 795-7453.

SUPPLEMENTARY INFORMATION: This is an extension to a currently approved information collection (IC). ACL is responsible for administering the Title VI A/B (Nutrition and Supportive Service) and C (Caregiver) grants. The purpose of this data collection is to improve and standardize the format of the application. The instrument will collect data as prescribed by the Older Americans Act Section 612(a), 614(a) and 45 CFR 1326.19 related to the eligibility of Federally recognized Tribes and Native Hawaiian organizations for grant funds under this program and their capacity to deliver services to elders.

The Older Americans Act, Application for Title VI Parts A/B and C Grants collects information on the ability of federally recognized American Indian, Alaskan Native and Native Hawaiian organizations to provide nutrition, supportive, and caregiver services to elders within their service area. Applicants are required to provide a description of their organization's service area, the number of eligible elders in their service area, and their ability to deliver services and sign assurances that the organization will comply with all applicable laws and regulations.

This is an extension of a currently approved information collection. The proposed data collection materials have been updated to better align with the requirements of the Older Americans Act and Federal regulations, as well as to improve data quality and grantee accountability. Furthermore, this grantee application will better line up with the Title VI Program Performance Report under 0985-0007. This data collection will also support ACL in tracking performance outcomes and efficiency measures with respect to the annual and long-term performance targets established in compliance with the Government Performance Results Modernization Act (GPRMA).

Comments in Response to the 60-Day Federal Register Notice

A notice published in the Federal Register 87, No. 126 on Friday, July 1, 2022. There were No public comments in response to the 60-day notice.

Estimated Program Burden: Title VI funding is broken into three categories. Parts A and B are for nutritional and supportive programming, with Part A being restricted to American Indian and Alaska Native grantees, and Part B restricted to Native Hawaiian grantees. Part C is for caregiver programming. All Part C grantees must have Part A/B funding, but not all Part A/B grantees will have Part C programs. Therefore, there are likely to be 295 unique respondents, but only 250 will have to complete all three portions of the application. This application covers all three parts of Title VI.

ACL estimates the burden associated with this collection of information as follows:

Respondent/data collection activity | Number of respondents | Responses per respondent | Hours per response | Annual burden hours
Title VI Application Part A/B | 295 | 1 | 2.75 | 270.4
Title VI Application Part C | 250 | 1 | 1.5 | 125
Total |  |  | 4.25 | 395.4

The number of burden hours associated with the Title VI, Part C, data collection was calculated as 811.25.

However, since this instrument is used only once every three years results in an annualized number of 270.4 hours. Similarly, the total hours associated with the Title VI, Part C, application is 375.

Dated: September 23, 2022.
Alison Barkoff,
Acting Administrator and Assistant Secretary for Aging.

[FR Doc. 2022-21080 Filed 9-28-22; 8:45 am]

BILLING CODE 4154-01-P